DEPARTMENT OF JUSTICE

Notice of Extension to Public Comment Period for Consent Decree Under the Clean Air Act and the Emergency Planning and Community Right-To Know Act”

On September 30, 2013, the Department of Justice lodged a proposed Consent Decree with the United States District Court for Oregon in the lawsuit entitled United States v. Oregon Door Company, Civil Action No. 6:13-cv-01738-MC.

In this lawsuit filed under the Clean Air Act and the Emergency Planning & Community Right to Know Act, the United States sought to obtain civil penalties and injunctive relief against the Oregon Door Company for violations of the regulations and requirements applicable to the emission of hazardous air pollutants, air operating permits, and toxic chemicals. The violations occurred at the Oregon Door Company manufacturing facility in Dillard, Oregon. The proposed Consent Decree requires the Oregon Door Company to pay a $50,000 civil penalty and perform injunctive relief.

The prior notice indicated that the Department of Justice would receive comments concerning the settlement for a period of thirty (30) days from the date of publication of the notice, October 24, 2013. The Department of Justice will now receive for a period of thirty-seven days from October 24, 2013 any comments relating to the proposed Consent Decree. Comments should be addresses to the Assistant Attorney General, Environment and Natural Resources Division and should refer to the case Name Oregon Door, Civil Action No. 6:13-cv-01738-MC, Dept Of Justice #: 90-5-2-1-10448. All comments must be submitted no later than December 2, 2013.

Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $7.50 (25 cents per page reproduction cost) payable to the United States Treasury.

Susan M. Akers,
Assistant Section Chief, Environmental Enforcement Section, Environment and Natural Resources Division.

[FR Doc. 2013-27751 Filed 11-19-13; 8:45 am]

BILLING CODE 4410-15-P